DEPARTMENT OF THE INTERIOR

Bureau of Land Management

[CO-923-1430-ET; COC-69155]

Public Land Order No. 7700; Transfer of Public Land for the Maybell West Uranium Repository; Colorado

AGENCY: Bureau of Land Management, Interior.

ACTION: Public Land Order.

SUMMARY: This order permanently transfers 160 acres of public land to the Department of Energy for its Maybell West Uranium Repository, in accordance with the terms of the Uranium Mill Tailings Radiation Control Act of 1978 (Public Law 95-604), as amended.

EFFECTIVE DATE: April 18, 2008.

FOR FURTHER INFORMATION CONTACT: Andy Senti, BLM Colorado State Office, 2850 Youngfield Street, Lakewood, Colorado 80215-7093, 303-239-3713.

SUPPLEMENTARY INFORMATION: The Umetco Maybell Uranium Mill Site has been stabilized and the Department of Energy plans to convert the site to a uranium mill tailings repository. Under Public Law 95-604, the Department of Energy is legally obligated to become the long-term custodian of the stabilized Umetco Maybell Uranium Mill Site. The long-term custodial responsibility is perpetual and is administered by the DOE under a Nuclear Regulatory Commission license. The land must be transferred in order for the Department of Energy to execute its responsibilities under Public Law 95-604.

Order

By virtue of the authority vested in the Secretary of the Interior by the Uranium Mill Tailings Radiation Control Act of 1978 (42 U.S.C. 7916 (2000)), as amended, it is ordered as follows:

1. Subject to valid existing right, the following described public land is hereby permanently transferred to the Department of Energy, and as a result of this transfer, the land is no longer subject to the operation of the general land laws, including the mining and mineral leasing laws, for the Maybell West Uranium Repository:

Sixth Principal Meridian

T. 7 N., R. 95 W.,

Sec. 24, S½NW¼ and N½SW¼.

The area described contains 160 acres in Moffat County.

2. The transfer of the above-described land to the Department of Energy vests in that Department, full management, jurisdiction, responsibility, and liability for such land and all activities conducted thereon, except as provided in Paragraph 3.

3. The Secretary of the Interior shall retain the authority to administer any existing claims, rights, and interests in this land that were established before the effective date of the transfer.

Dated: March 27, 2008.
C. Stephen Allred,
Assistant Secretary—Land and Minerals Management.

[FR Doc. E8-8418 Filed 4-17-08; 8:45 am]

BILLING CODE 4310-JB-P